DEPARTMENT OF HEALTH AND HUMAN SERVICES

Substance Abuse and Mental Health Services Administration

Office for Women's Services; Notice of Meeting

Pursuant to Public Law 92-463, notice is hereby given of the meeting of the Advisory Committee for Women's Services of the Substance Abuse and Mental Health Services Administration (SAMHSA) on Friday January 26, 2001.

The meeting of the Advisory Committee for Women's Services will include a discussion of policy and program issues relating to women's substance abuse and mental health service needs; the SAMHSA fiscal year 2001 budget; specific Committee goals for the current year, planning discussions for SAMHSA's Third National Conference on Women, consideration of the September 29, 2000 meeting minutes; and other policy issues.

A summary of the meeting and/or a roster of committee members may be obtained from: Nancy P. Brady, Executive Secretary, Advisory Committee for Women's Services, Office for Women's Services, SAMHSA, Parklawn Building, Room 13-99, 5600 Fishers Lane, Rockville, Maryland 20857, Telephone: (301) 443-5184.

Substantive information may be obtained from the contact whose name and telephone number is listed below.

Committee Name: Advisory Committee for Women's Services.

Meeting Date(s): Friday January 26, 2001.

Meeting Time: 2:30-5:00 p.m.

Place: 5600 Fishers Lane, Parklawn Building Room 16-105, Rockville, MD 20857.

Open: January 26, 2001.

Contact: Nancy P. Brady, Room 13-99, Parklawn Building, Telephone: (301) 443-8964.

Dated: January 8, 2001.
Toian Vaughn,
Committee Management Officer, Substance Abuse and Mental Health Services Administration.

[FR Doc. 01-1389 Filed 1-17-01; 8:45 am]

BILLING CODE 4162-20-P